DEPARTMENT OF HOMELAND SECURITY

U.S. Citizenship and Immigration Services

[CIS No. 2737-22; DHS Docket No. USCIS-2014-0001]

RIN 1615-ZB70

Extension and Redesignation of Haiti for Temporary Protected Status

AGENCY: U.S. Citizenship and Immigration Services (USCIS), Department of Homeland Security (DHS).

ACTION: Notice of Temporary Protected Status (TPS) extension and redesignation.

SUMMARY: Through this notice, the Department of Homeland Security (DHS) announces that the Secretary of Homeland Security (Secretary) is extending the designation of Haiti for Temporary Protected Status (TPS) for 18 months, beginning on February 4, 2023, and ending on August 3, 2024. This extension allows existing TPS beneficiaries to retain TPS through August 3, 2024, so long as they continue to meet the eligibility requirements for TPS. Existing TPS beneficiaries who wish to extend their status through August 3, 2024, must re-register during the 60-day re-registration period described in this notice. The Secretary is also redesignating Haiti for TPS. The redesignation of Haiti allows additional Haitian nationals (and individuals having no nationality who last habitually resided in Haiti) who have been continuously residing in the United States since November 6, 2022, to apply for TPS for the first time during the initial registration period described under the redesignation information in this notice. In addition to demonstrating continuous residence in the United States since November 6, 2022, and meeting other eligibility criteria, applicants for TPS under this designation must demonstrate that they have been continuously physically present in the United States since February 4, 2023, the effective date of this redesignation of Haiti for TPS.

DATES:

Extension of Designation of Haiti for TPS: The 18-month extension of Haiti's designation for TPS begins on February 4, 2023, and will remain in effect for 18 months, ending on August 3, 2024. The extension impacts existing beneficiaries of TPS.

Re-registration: The 60-day re-registration period for existing beneficiaries runs from January 26, 2023 through March 27, 2023. (Note: It is important for re-registrants to timely re-register during the registration period and not to wait until their Employment Authorization Documents (EADs) expire, as delaying re-registration could result in gaps in their employment authorization documentation.) ¹

¹ Individuals with TPS who were granted under the 2011 designation of Haiti and who are covered under the preliminary injunction that requires DHS to continue their TPS and TPS-related documents, unless their TPS has been withdrawn for individual ineligibility, retain their TPS and their documents remain valid through June 30, 2024 in accordance with the Federal Register notice published at 87 FR 68717 (Nov. 16, 2022) or any superseding such litigation-related notice that DHS may issue. See Ramos, et al. v. Nielsen, et al., 321 F.Supp.3d 1083 (N.D. Cal. Oct. 3, 2018) (“Ramos”), vacated Ramos v. Wolf, 975 F.3d 872 (9th Cir. 2020), petition for en banc rehearing filed Nov. 30, 2020 (No. 18-16981). However, such individuals may re-register under this notice, which will help ensure that their TPS continues (if they remain eligible) as long as Haiti's designation exists even if the Ramos injunction ceases.

Redesignation of Haiti for TPS: The 18-month redesignation of Haiti for TPS begins on February 4, 2023, and will remain in effect for 18 months, ending on August 3, 2024. The redesignation impacts potential first-time applicants and others who do not currently have TPS.

First-time Registration: The initial registration period for new applicants under the Haiti TPS redesignation begins on January 26, 2023 and will remain in effect through August 3, 2024.

FOR FURTHER INFORMATION CONTACT: You may contact Rená Cutlip-Mason, Chief, Humanitarian Affairs Division, Office of Policy and Strategy, U.S. Citizenship and Immigration Services, Department of Homeland Security, by mail at 5900 Capital Gateway Drive, Camp Springs, MD 20746, or by phone at 800-375-5283.

For further information on TPS, including guidance on the registration process and additional information on eligibility, please visit the USCIS TPS web page at https://www.uscis.gov/tps. You can find specific information about Haiti's TPS designation by selecting “Haiti” from the menu on the left side of the TPS web page.

If you have additional questions about TPS, please visit https://www.uscis.gov/tools. Our online virtual assistant, Emma, can answer many of your questions and point you to additional information on our website. If you are unable to find your answers there, you may also call our USCIS Contact Center at 800-375-5283 (TTY 800-767-1833).

Applicants seeking information about the status of their individual cases may check Case Status Online, available on the USCIS website at https://www.uscis.gov, or visit the USCIS Contact Center at https://www.uscis.gov/contactcenter.

Further information will also be available at local USCIS offices upon publication of this notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-765—Application for Employment Authorization

Form I-797—Notice of Action (Approval Notice)

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TPS—Temporary Protected Status

TTY—Text Telephone

USCIS—U.S. Citizenship and Immigration Services

U.S.C.—United States Code

Purpose of This Action (TPS)

Through this notice, DHS sets forth procedures necessary for nationals of Haiti (or individuals having no nationality who last habitually resided in Haiti) to (1) re-register for TPS and apply for renewal of their EADs with USCIS or (2) submit an initial registration application under the redesignation and apply for an EAD.

Individuals who previously registered for TPS under the August 3, 2021 prior designation of Haiti and whose applications have been granted must re-register properly within the 60-day re-registration period in order to maintain TPS and avoid withdrawal of their TPS following appropriate procedures. See 8 CFR 244.14. If your TPS is currently continuing under the court order in Ramos, re-registering for TPS under this Notice does not affect the continuation of your TPS while the order remains in effect. However, if the court order is no longer in effect, re-registering for TPS under this Federal Register Notice will help ensure that you have TPS until the end of the designation as long as you remain eligible.

For individuals who have already been granted TPS under Haiti's August 3, 2021 designation or the July 23, 2011 designation and who continue to have TPS, the 60-day re-registration period runs from January 26, 2023 through March 27, 2023.

USCIS will issue new EADs with an August 3, 2024 expiration date to eligible Haitian TPS beneficiaries who timely re-register and apply for EADs.

Given the time frames involved with processing TPS re-registration applications, DHS recognizes that not all re-registrants may receive new EADs before their current EADs expire. Accordingly, through this Federal Register notice, DHS automatically extends the validity of EADs previously issued under the August 3, 2021 TPS designation of Haiti through February 3, 2024. Therefore, as proof of continued employment authorization through February 3, 2024, TPS beneficiaries can show their EADs that have the notation A-12 or C-19 under Category and a “Card Expires” date of February 3, 2023. This notice explains how TPS beneficiaries and their employers may determine which EADs are automatically extended and how this affects the Form I-9, Employment Eligibility Verification, E-Verify, and USCIS Systematic Alien Verification for Entitlements (SAVE) processes.²

² Certain EADs and other TPS documents issued to individuals covered by the Ramos injunction remain valid in accordance with that court order. For details, please see 86 FR 50725 (Sept. 10, 2021). If a superseding litigation-related notice is published that affects individuals under Ramos, DHS will also notify the public on the USCIS website.

Individuals who have a Haiti TPS application (Form I-821) and/or Application for Employment Authorization (Form I-765) that was still pending as of January 26, 2023 do not need to file either application again. If USCIS approves an individual's Form I-821, USCIS will grant the individual TPS through August 3, 2024. Similarly, if USCIS approves a pending TPS-related Form I-765 filed in connection with a Form I-821, USCIS will issue the individual a new EAD that will be valid through the same date.

Under the redesignation, individuals who currently do not have TPS may submit an initial application during the initial registration period that runs from January 26, 2023 through the full length of the redesignation period ending August 3, 2024.³ In addition to demonstrating continuous residence in the United States since November 6, 2022, and meeting other eligibility criteria, applicants for TPS under this redesignation must demonstrate that they have been continuously physically present in the United States since February 4, 2023,⁴ the effective date of this redesignation of Haiti, before USCIS may grant them TPS. DHS estimates that approximately 105,000 individuals may become newly eligible for TPS under the redesignation of Haiti.

³ In general, individuals must be given an initial registration period of no less than 180 days to register for TPS, but the Secretary has discretion to provide for a longer registration period. See 8 U.S.C. 1254a(c)(1)(A)(iv). In keeping with the humanitarian purpose of TPS and advancing the goal of ensuring “the Federal Government eliminates . . . barriers that prevent immigrants from accessing government services available to them” under Executive Order 14012, Restoring Faith in Our Legal Immigration Systems and Strengthening Integration and Inclusion Efforts for New Americans, 86 FR 8277 (Feb. 5, 2021), the Secretary has exercised his discretion to provide for a TPS initial registration period that coincides with the full period of a Haiti's redesignation.

⁴ The “continuous physical presence date” (CPP) is the effective date of the most recent TPS designation of the country, which is either the publication date of the designation announcement in the Federal Register or such later date as the Secretary may establish. The “continuous residence date” (CR) is any date established by the Secretary when a country is designated (or sometimes redesignated) for TPS. See INA section 244(b)(2)(A) (effective date of designation); 244(c)(1)(A)(i-ii) (discussing CR and CPP date requirements).

What is Temporary Protected Status (TPS)?

• TPS is a temporary immigration status granted to eligible nationals of a foreign state designated for TPS under the Immigration and Nationality Act (INA), or to eligible individuals without nationality who last habitually resided in the designated foreign state, regardless of their country of birth.

• During the TPS designation period, TPS beneficiaries are eligible to remain in the United States, may not be removed, and are authorized to work so long as they continue to meet the requirements of TPS. They may apply for and receive EADs as evidence of employment authorization.

• TPS beneficiaries may also apply for and be granted travel authorization as a matter of DHS discretion.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, as long as it is still valid beyond the date TPS terminates.

When was Haiti designated for TPS?

Haiti was initially designated on the basis of extraordinary and temporary conditions that prevented nationals of Haiti from returning in safety. See Designation of Haiti for Temporary Protected Status, 75 FR 3476 (Jan. 21, 2010). Following the initial designation, TPS for Haiti was extended and redesignated once from July 23, 2011, through January 22, 2013, based on extraordinary and temporary conditions.⁵ Thereafter, TPS for Haiti was extended four times based on extraordinary and temporary conditions: (1) from January 23, 2013, through July 22, 2014; ⁶ (2) from July 23, 2014, through January 22, 2016; ⁷ (3) from January 23, 2016, through July 22, 2017; ⁸ and (4) from July 23, 2017, through January 22, 2018.⁹ Subsequently, the Secretary announced the termination of the TPS designation of Haiti effective July 22, 2019.¹⁰

⁵ See Extension and Redesignation of Haiti for Temporary Protected Status, 76 FR 29000 (May 19, 2011).

⁶ See Extension of the Designation of Haiti for Temporary Protected Status, 77 FR 59943 (Oct. 1, 2012).

⁷ See Extension of the Designation of Haiti for Temporary Protected Status, 79 FR 11808 (Mar. 3, 2014).

⁸ See Extension of the Designation of Haiti for Temporary Protected Status, 80 FR 51582 (Aug. 25, 2015).

⁹ See Extension of the Designation of Haiti for Temporary Protected Status, 82 FR 23830 (May 24, 2017).

¹⁰ See Termination of the Designation of Haiti for Temporary Protected Status, 83 FR 2648 (Jan. 18, 2018).

The termination of Haiti's 2011 TPS designation is being challenged in several lawsuits, and court injunctions require DHS to continue TPS for Haiti temporarily pending further court order.¹¹ Secretary Mayorkas newly designated Haiti on the basis of extraordinary and temporary conditions effective August 3, 2021, through February 3, 2023.¹²

¹¹ See Ramos v. Wolf, 975 F.3d 872 (9th Cir. 2020), petition for en banc rehearing filed Nov. 30, 2020 (No. 18-16981) (district court's preliminary injunction against termination of six countries' TPS, including TPS for Haiti, remains in effect pending 9th Circuit consideration of plaintiffs' request for en banc rehearing of appellate panel decision to vacate the district court injunction); Saget v. Trump, No. 1:18-cv-1599 (E.D.N.Y. 2019) (injunction issued, but dismissed as moot, Oct. 15, 2021)); NAACP v. DHS, No. 18-cv-00239 (D. Md.); and Centro Presente v. Trump, No. 18-cv-10340 (D. Mass).

¹² See Designation of Haiti for Temporary Protected Status, 86 FR 41863 (Aug. 3, 2021).

What authority does the Secretary have to extend the designation of Haiti for TPS?

Section 244(b)(1) of the INA, 8 U.S.C. 1254a(b)(1), authorizes the Secretary, after consultation with appropriate agencies of the U.S. Government, to designate a foreign state (or part thereof) for TPS if the Secretary determines that certain country conditions exist.¹³ The decision to designate any foreign state (or part thereof) is a discretionary decision, and there is no judicial review of any determination with respect to the designation, termination, or extension of a designation. See INA section 244(b)(5)(A); 8 U.S.C. 1254a(b)(5)(A).¹⁴ The Secretary, in his or her discretion, may then grant TPS to eligible nationals of that foreign state (or individuals having no nationality who last habitually resided in the designated foreign state). See INA section 244(a)(1)(A), 8 U.S.C. 1254a(a)(1)(A).

¹³ INA section 244(b)(1) ascribes this power to the Attorney General. Congress transferred this authority from the Attorney General to the Secretary of Homeland Security. See Homeland Security Act of 2002, Public Law 107-296, 116 Stat. 2135. The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. Id., at section 244(b)(1).

¹⁴ This issue of judicial review is the subject of litigation. See, e.g., Ramos v. Wolf, 975 F.3d 872 (9th Cir. 2020), petition for en banc rehearing filed Nov. 30, 2020 (No. 18-16981); Saget v. Trump, 375 F. Supp. 3d 280 (E.D.N.Y. 2019).

At least 60 days before the expiration of a foreign state's TPS designation or extension, the Secretary, after consultation with appropriate U.S. Government agencies, must review the conditions in the foreign state designated for TPS to determine whether they continue to meet the conditions for the TPS designation. See INA section 244(b)(3)(A), 8 U.S.C. 1254a(b)(3)(A). If the Secretary determines that the foreign state continues to meet the conditions for TPS designation, the designation will be extended for an additional period of 6 months or, in the Secretary's discretion, 12 or 18 months. See INA section 244(b)(3)(A), (C), 8 U.S.C. 1254a(b)(3)(A), (C). If the Secretary determines that the foreign state no longer meets the conditions for TPS designation, the Secretary must terminate the designation. See INA section 244(b)(3)(B), 8 U.S.C. 1254a(b)(3)(B).

What is the Secretary's authority to redesignate Haiti for TPS?

In addition to extending an existing TPS designation, the Secretary, after consultation with appropriate Government agencies, may redesignate a country (or part thereof) for TPS. See INA section 244(b)(1), 8 U.S.C. 1254a(b)(1); see also INA section 244(c)(1)(A)(i), 8 U.S.C. 1254a(c)(1)(A)(i) (requiring that “the alien has been continuously physically present since the effective date of the most recent designation of the state”) (emphasis added).¹⁵

¹⁵ The extension and redesignation of TPS for Haiti is one of several instances in which the Secretary and, prior to the establishment of DHS, the Attorney General, have simultaneously extended a country's TPS designation and redesignated the country for TPS. See, e.g., 76 FR 29000 (May 19, 2011) (extension and redesignation for Haiti); 69 FR 60168 (Oct. 7, 2004) (extension and redesignation for Sudan); 62 FR 16608 (Apr. 7, 1997) (extension and redesignation for Liberia).

When the Secretary designates or redesignates a country for TPS, the Secretary also has the discretion to establish the date from which TPS applicants must demonstrate that they have been “continuously resid[ing]” in the United States. See INA section 244(c)(1)(A)(ii), 8 U.S.C. 1254a(c)(1)(A)(ii). The Secretary has determined that the “continuous residence” date for applicants for TPS under the redesignation of Haiti will be November 6, 2022. Initial applicants for TPS under this redesignation must also show they have been “continuously physically present” in the United States since February 4, 2023, which is the effective date of the Secretary's redesignation of Haiti. See INA section 244(c)(1)(A)(i), 8 U.S.C. 1254a(c)(1)(A)(i). For each initial TPS application filed under the redesignation, the final determination of whether the applicant has met the “continuous physical presence” requirement cannot be made until February 4, 2023, the effective date of this redesignation for Haiti. USCIS, however, will issue employment authorization documentation, as appropriate, during the registration period in accordance with 8 CFR 244.5(b).

Why is the Secretary extending the TPS designation for Haiti and simultaneously redesignating Haiti for TPS through August 3, 2024?

DHS has reviewed country conditions in Haiti. Based on the review, including consultation with DOS and other U.S. Government agencies, the Secretary has determined that an 18-month TPS extension is warranted because the extraordinary and temporary conditions supporting Haiti's TPS designation remain and that such extension is not contrary to the national interest of the United States. The Secretary has further determined that redesignating Haiti for TPS based on extraordinary and temporary conditions under INA section 244(b)(3)(C), 8 U.S.C. 1254a(b)(1)(C) is warranted, including a determination that redesignation is not contrary to the national interest of the United States, and is changing the “continuous residence” and “continuous physical presence” dates that applicants must meet to be eligible for TPS.

Overview

DHS has conducted a thorough review of country conditions in Haiti. Haiti is experiencing economic, security, political, and health crises simultaneously. Haitian gangs are the primary source of violence and instability in Haiti and pose an increasing threat as they expand their influence and geographic presence over portions of metropolitan Port-au-Prince.¹⁶ Haitian political and business elites have long cultivated relationships with gang leaders to further their agendas and destabilize Haiti.¹⁷ While elites often operationalize gangs, the gangs typically function as mercenaries responsive to the highest bidder.¹⁸ Moreover, some gangs earn sufficient funds from kidnapping for ransom operations to function as independent criminal organizations.¹⁹ At the same time, Haiti is confronting a humanitarian crisis, with many citizens having limited access to safety, healthcare, food, water, and economic opportunity. These circumstances continue to make return to Haiti dangerous for Haitian nationals living in the United States.

¹⁶ Diego Da Rin, New Gang Battle Lines Scar Haiti as Political Deadlock Persists, International Crisis Group (July 27, 2022), https://www.crisisgroup.org/latin-america-caribbean/haiti/new-gang-battle-lines-scar-haiti-political-deadlock-persists.

¹⁷ Id.

¹⁸ D.C. Beer, Chapter 3 Haiti: The Gangs of Cité Soleil, PRISM: National Defense University, May 24, 2016, https://cco.ndu.edu/News/Article/780129/chapter-3-haiti-the-gangs-of-cit-soleil/.

¹⁹ Jennifer Jelly and Tatiana Vasquez, The Rise of Kidnappings for Ransom in Haiti, The Counterterrorism Group, Dec. 13, 2021, https://www.counterterrorismgroup.com/post/the-rise-of-kidnappings-for-ransom-in-haiti.

Political Situation

The Haitian parliament was dissolved in January 2020 as the mandates of two thirds of Senate members and all Chamber of Deputies members expired, and no new elections were held.²⁰ On July 7, 2021, President Jovenel Moïse was assassinated in his private residence in Port-au-Prince. Subsequently, Ariel Henry, whom Moïse had appointed prime minister days before the assassination, was installed as head of a new government.²¹

²⁰ Freedom House, Freedom in the World 2022—Haiti (Feb. 28, 2022), https://freedomhouse.org/country/haiti/freedom-world/2022.

²¹ Human Rights Watch, World Report 2022—Haiti (Jan. 13, 2022), https://www.hrw.org/world-report/2022/country-chapters/haiti.

Since then, PM Henry and opposition groups have engaged in intermittent negotiations about a political path towards elections. On December 21, 2022, representatives of civil society, the private sector, and political groups began signing a revised political agreement known as the “December Accord,” which was supported by PM Henry.²² Some opposition members, including many members of the Citizen Conference for a Haitian Solution to the Crisis, also known as Montana Group members, had not yet agreed to the accord as of January 4, 2023.²³

²² Haiti Libre, Haiti—FLASH: The PM signed a historic consensus for an inclusive transition, Dec. 22, 2022, https://www.haitilibre.com/en/news-38427-haiti-flash-the-pm-signed-a-historic-consensus-for-an-inclusive-transition.html.

²³ Juno7, Accord du 21 décembre 2022: les violons ne s'accordant pas au sein de l'accord de Montana, Dec. 29, 2022, https://www.juno7.ht/accord-du-21-decembre-2022-violons-laccord-de-montana/.

The Haitian government has long been accused of corruption and ineptitude. Politicians and the business elite in Haiti have historically relied on gangs to obtain and exert power, but the gangs have grown more autonomous in recent years.²⁴ An April 2021 report by Harvard Law School's International Human Rights Clinic alleged that the Moïse government funneled money, weapons, uniforms, and vehicles to gangs like the G9, in exchange for them repressing political opponents, often brutally, and maintaining the peace in poorer neighborhoods.²⁵ A July 2022 International Crisis Group report stated “collusion between state security forces and illegal armed groups has flourished in the absence of political will to hold corrupt officers accountable and because of efforts of those in power to deploy the police (as well as gangs) to serve their personal interests.” ²⁶

²⁴ Diego Da Rin, New Gang Battle Lines Scar Haiti as Political Deadlock Persists, International Crisis Group (July 27, 2022), https://www.crisisgroup.org/latin-america-caribbean/haiti/new-gang-battle-lines-scar-haiti-political-deadlock-persists.

²⁵ Harvard Law School International Human Rights Clinic, Killing with Impunity: State-Sanctioned Massacres in Haiti (April 2021), http://hrp.law.harvard.edu/wp-content/uploads/2021/04/Killing_With_Impunity-1.pdf.

²⁶ Diego Da Rin, New Gang Battle Lines Scar Haiti as Political Deadlock Persists, International Crisis Group (July 27, 2022), https://www.crisisgroup.org/latin-america-caribbean/haiti/new-gang-battle-lines-scar-haiti-political-deadlock-persists.

Security Situation

Since President Moïse's assassination, Haiti has experienced a sharp deterioration in an already fragile security situation. Gang violence and kidnappings have spiked throughout the country, particularly in the capital, Port-au-Prince. The United Nations documented 934 killings, 684 injuries, and 680 kidnappings in Port-au-Prince from January to June 2022.²⁷ In one 10-day period in July 2022, more than 200 people were killed in gang violence in Port-au-Prince; nearly half of the decedents had no gang ties.²⁸ Human rights organizations have said there were more than 1,200 kidnappings in 2021, almost twice the number reported in 2020 and five times more than in 2019.²⁹

²⁷ Haiti: UN sounds alarm over worsening gang violence across Port-au-Prince, UN News, July 16, 2022, https://news.un.org/en/story/2022/07/1122662#:~:text=%E2%80%9CWe%20have%20so%20far%20documented,Soleil%20area%20of%20the%20city.%E2%80%9D.

²⁸ BBC News, Haiti Gang Violence: 209 killed in Cité Soleil in 10 days, July 26, 2022, https://www.bbc.com/news/world-latin-america-62292007.

²⁹ Diego Da Rin, New Gang Battle Lines Scar Haiti as Political Deadlock Persists, International Crisis Group (July 27, 2022), https://www.crisisgroup.org/latin-america-caribbean/haiti/new-gang-battle-lines-scar-haiti-political-deadlock-persists.

There are around 200 gangs across Haiti, 95 of which operate in metropolitan Port-au-Prince. Many of Haiti's gangs have coalesced around two main alliances: the G9 and the GPèp. A struggle for dominance by various gangs has superseded the old local rivalries. Gangs have decapitated opponents in public, burnt corpses in the street, set fire to houses, and used sexual violence to intimidate residents out of collaborating with their rivals.³⁰ Clashes between rival gangs led to particularly high levels of gang violence in April and May 2022, leading to the temporary closure of dozens of schools, medical centers, businesses, and markets, making it difficult for people to find basic products including food, water, and medicines.³¹ In May 2022, UN High Commissioner for Human Rights Michelle Bachelet described armed violence in Haiti as “unimaginable and intolerable” and stated that “violence has had a severe impact on the most basic human rights of people.” ³² Also in May, Doctors Without Borders warned that kidnappings for ransom that target many residents of Port-au-Prince, including medical personnel, were making it increasingly difficult for the population to access healthcare.³³ Gangs in Port-au-Prince targeted homeless and at-risk teens as participants in gang violence.³⁴ In July 2022, the UN Office for the Coordination of Humanitarian Affairs (UNOCHA) estimated that more than a third of Port-au-Prince was under the control of gangs.³⁵

³⁰ Id.

³¹ Office of the High Commissioner for Human Rights, Press Release: Haiti: Bachelet deeply disturbed by human rights impact of deteriorating security situation in Port-au-Prince (May 17, 2022), https://www.ohchr.org/en/press-releases/2022/05/haiti-bachelet-deeply-disturbed-human-rights-impact-deteriorating-security.

³² Id.

³³ Doctors Without Borders, Haiti: Attacks on medical staff leave many people without health care (May 22, 2022), https://www.doctorswithoutborders.org/latest/haiti-attacks-medical-staff-leave-many-people-without-health-care.

³⁴ InSight Crime, Haiti Gangs Recruiting, Arming More Children (June 3, 2022), https://insightcrime.org/news/haiti-gangs-recruiting-arming-more-children/.

³⁵ UNOCHA, Haiti: Impact of the deteriorating security situation on humanitarian access: Background note—8 July 2022 (July 9, 2022), https://reliefweb.int/report/haiti/haiti-impact-deteriorating-security-situation-humanitarian-access-background-note-8-july-2022.

Haitian gangs have also attacked religious and government infrastructure. On June 10, 2022, a gang known as 5 Seconds took temporary control of the Court of First Instance, the main courthouse in Port au Prince. While the courthouse had not been used for criminal trials for several years due to persistent insecurity, the gang nevertheless forced judicial officials out and stole computers, desks, and other assets. The gang appears to have stolen or destroyed case files and evidence that the president of the Association of Haitian Magistrates said would be impossible to recover as Haitian courts do not have digital copies of files.³⁶ On July 27, 2022, gang members set Port-au-Prince's transitional cathedral on fire and deployed tear gas during a clash in Bel Air neighborhood, in which several people were killed and others injured by stray bullets. Local sources denounced the use of state-owned machinery by the G9 as well as a lack of action by state forces. In Ouest department, the region in which Port-au-Prince is located, members of the 400 Mawozo gang set a public prosecutor's office on fire in Croix-de-Bouquets district near the capital on the night of July 25, 2022.³⁷

³⁶ HRW, Haiti: Wave of Violence Deepens Crisis (July 22, 2022), https://reliefweb.int/report/haiti/haiti-wave-violence-deepens-crisis.

³⁷ ACLED, ACLED Regional Overview—Mexico, Central America, and the Caribbean (23-29 July 2022) (July 29, 2022), https://reliefweb.int/report/haiti/acled-regional-overview-mexico-central-america-and-caribbean-23-29-july-2022.

In mid-September, gangs blocked access to the Varreux Terminal in Port-au-Prince, the main entry point for fuel in Haiti, cutting off millions of gallons of diesel and gasoline and causing a severe fuel shortage.³⁸ The fuel blockage paralyzed Haiti's economy.³⁹ Health centers and hospitals had to close, and the distribution of water was interrupted.⁴⁰ The lack of access to clean water contributed to the outbreak of cholera in early October, and complicated efforts to respond to and contain the outbreak.⁴¹ On October 7, the government of Haiti requested assistance from the international community to confront gangs and address the humanitarian crisis.⁴² In an October 12, 2022 Press Statement, U.S. Secretary of State Antony Blinken emphasized the critical nature of the humanitarian situation in Haiti, noting that the United States is committed to continuing to help Haiti address the crisis through multiple avenues.⁴³ On October 15, the U.S. and Canada delivered Haitian National Police-purchased armored vehicles and other law enforcement equipment to assist in re-taking the terminal.⁴⁴ A Haitian National Police operation in early November successfully re-gained control of the fuel terminal.⁴⁵ The relatively small size of the Haitian National Police remains concerning. Out of 14,161 officers, approximately 13,000 officers are assigned to law enforcement activities.⁴⁶ Haiti has just over one police officer assigned to law enforcement activities per 1,000 inhabitants, well below the 2.2 officers per 1,000 recommended by the United Nations.⁴⁷

³⁸ PBS NewsHour, Haiti reaches a breaking point as the economy tanks and violence soars (Oct. 4, 2022), https://www.pbs.org/newshour/world/haiti-reaches-a-breaking-point-as-the-economy-tanks-and-violence-soars.

³⁹ Brian Ellsworth and Harold Isaac, UN calls for `humanitarian corridor' in Haiti as gang blockade drags on, Reuters, Oct. 6, 2022, https://www.reuters.com/world/americas/un-calls-humanitarian-corridor-haiti-gang-blockade-drags-2022-10-06/.

⁴⁰ UN News, Haiti: Fuel crisis prompts appeal for humanitarian corridor amid cholera outbreak, Oct. 6, 2022, https://news.un.org/en/story/2022/10/1129317.

⁴¹ Id.

⁴² Reuters, Haiti's situation is dire and cannot persist, State Department says, Oct. 11, 2022, https://www.reuters.com/world/americas/haitis-situation-is-dire-cannot-persist-state-department-says-2022-10-11/.

⁴³ U.S. Department of State, Press Statement, Steps to Address the Humanitarian and Security Situation in Haiti, Oct. 12, 2022, https://www.state.gov/steps-to-address-the-humanitarian-and-security-situation-in-haiti/.

⁴⁴ Reuters, U.S., Canada deliver armored vehicles to Haitian police to fight gangs, Oct. 15, 2022, https://www.reuters.com/world/americas/us-canada-deliver-armored-vehicles-haitian-police-2022-10-15/.

⁴⁵ Reuters, Haitians hope for fuel supplies after police break up gang blockade at terminal, Nov. 5, 2022, https://www.reuters.com/world/americas/haitians-hope-fuel-supplies-after-police-break-up-gang-blockade-terminal-2022-11-05/.

⁴⁶ United National Security Council, Letter dated 8 October 2022 from the Secretary-General addresses to the President of the Security Council, Oct. 10, 2022, https://digitallibrary.un.org/record/3990649?ln=en.

⁴⁷ Id.

Environmental Situation

Several recent environmental disasters have contributed to the extraordinary and temporary conditions in Haiti. On August 14, 2021, a 7.2 magnitude earthquake hit the southern region of Haiti, killing more than 2,200 people, injuring 12,700, destroying 130,000 homes, and leaving thousands of people in urgent need of assistance.⁴⁸ Two days later, Tropical Storm Grace's torrential rains caused floods and landslides in the same departments affected by the earthquake, as well as in Sud-Est.⁴⁹ According to the 2021 Global Climate Risk Index, Haiti was third among the countries most affected by extreme weather events between 2000 and 2019 and continues to remain vulnerable.⁵⁰ Widespread deforestation has left the country especially prone to flooding and mudslides, which strike Haiti at twice the rate as the Dominican Republic.⁵¹

⁴⁸ UNICEF, Massive earthquake leaves devastation in Haiti (last updated Oct. 4, 2021), https://www.unicef.org/emergencies/massive-earthquake-devastation-haiti.

⁴⁹ FAO, Haiti: Urgent call for funding (September 2021-May 2022)—Emergency response to households affected by the earthquake and Tropical Storm Grace (Sept. 10, 2021), https://reliefweb.int/report/haiti/haiti-urgent-call-funding-september-2021-may-2022-emergency-response-households.

⁵⁰ Germanwatch, Global Climate Risk Index 2021 (Jan. 25, 2021), https://reliefweb.int/report/world/global-climate-risk-index-2021.

⁵¹ Council on Foreign Relations, Haiti's Troubled Path to Development (Sept. 17, 2021), https://www.cfr.org/backgrounder/haitis-troubled-path-development.

Humanitarian Situation

Haiti has one of the highest levels of chronic food insecurity in the world with more than half of its total population chronically food insecure and 22% of children chronically malnourished, according to a September 2022 report.⁵² As of October 2022, the total number of people in acute food insecurity stood at 4.7 million people, including 1.8 million people in the “emergency” phase on the World Food Program's (WFP) Integrated Food Security Classification Index.⁵³ For the first time ever, 19,000 Haitians are considered to be in the “catastrophe” phase (the most severe classification).⁵⁴

⁵² WFP, WFP Haiti Country Brief, September 2022 (Sept. 30, 2022), https://reliefweb.int/report/haiti/wfp-haiti-country-brief-september-2022.

⁵³ UN News, `Catastrophic' hunger recorded in Haiti for first time, UN warns, Oct. 14, 2022, https://news.un.org/en/story/2022/10/1129537#:~:text=According%20to%20the%20latest%20IPC,in%20Catastrophe%20phase%2C%20phase%205.

⁵⁴ Id.

Armed clashes between gangs destroyed water networks and disrupted water truck deliveries in several Port-au-Prince neighborhoods during 2022. A Doctors Without Borders project coordinator noted that in addition to an epidemic of scabies directly connected to the lack of water since the beginning of 2022, people could only “afford small quantities of drinking water, but they [couldn't] access clean water in quantities needed for hygiene.” ⁵⁵ Adding to the struggle Haitians face to meet their basic needs, two WFP warehouses were looted and pillaged in September 2022, resulting in the loss of approximately $6 million of relief assistance, including 2,000 tons of food.⁵⁶

⁵⁵ Doctors Without Borders, Returning to Haiti means death (Aug. 12, 2022), https://www.doctorswithoutborders.org/latest/returning-haiti-means-death.

⁵⁶ Reuters, Haiti looting caused loss of some $6 million in relief supplies, WFP says, Sept. 26, 2022, https://www.reuters.com/world/haiti-looting-caused-loss-some-6-mln-relief-supplies-wfp-says-2022-09-26/.

Haiti continues to face many health challenges. USAID's most recent Strategic Framework report stated: “health challenges for preventable diseases worsened after the 2010 cholera epidemic and there has been limited progress in improving health outcomes.” ⁵⁷ As of August 1, 2022, 1.4% of the country's population was fully vaccinated against COVID-19.⁵⁸ Haiti ranks among the world's bottom 10 countries in terms of COVID-19 vaccination coverage.⁵⁹

⁵⁷ USAID, Haiti Strategic Framework December 23, 2020-December 23, 2022 (July 29, 2021), https://www.usaid.gov/sites/default/files/documents/Strategic_Framework_-_Haiti_-_December_2020-2022.pdf.

⁵⁸ Congressional Research Service, Haiti: Political Conflict and U.S. Policy Overview (Aug. 2, 2022), https://crsreports.congress.gov/product/pdf/IF/IF12182.

⁵⁹ World Bank, The World Bank approved $35 million to improve Haiti's COVID-19 response (June 11, 2022), https://reliefweb.int/report/haiti/world-bank-approved-35-million-improve-haitis-covid-19-response.

The United Nations and the Haitian government have reported a new cholera outbreak, with the first cases detected between October 1-2, 2022.⁶⁰ As of November 15, 2022, there were 8,146 hospitalized suspected cases and 821 confirmed cases of cholera, resulting in 188 deaths.⁶¹ The end of the two-month fuel terminal seizure allowed hospitals, water treatment plants, commercial water suppliers, and transportation networks to resume functioning, allowing for better access to cholera prevention and treatment. However, paradoxically, the availability of fuel also allowed for resumed mobility among the general population, potentially leading to increased cholera transmission.⁶² In November 2022, the UN launched a “Flash Appeal” requesting $145.6 million to contain the outbreak and respond to other humanitarian needs throughout Haiti.⁶³

⁶⁰ Widlore Mérancourt, Kelly Kasulis Cho, and Amanda Coletta, The Washington Post, Cholera Resurfaces in Haiti as gangs hinder access to water, hospitals, Oct. 3, 2022, https://www.washingtonpost.com/world/2022/10/03/haiti-cholera-gang-violence-water/.

⁶¹ Pan American Health Organization, Cholera Outbreak in Hispaniola, Situation Report #6, Nov. 17, 2022, https://www.paho.org/en/documents/cholera-outbreak-hispaniola-2022-situation-report-6.

⁶² PBS NewsHour, Cholera overwhelms Haiti, experts warn outbreak could worsen as fuel blockade lifts, Nov. 16, 2022, https://www.pbs.org/newshour/world/cholera-overwhelms-haiti-experts-warn-outbreak-could-worsen-as-fuel-blockade-lifts.

⁶³ UN Office for the Coordination of Humanitarian Affairs, Haiti 2022 Cholera Flash Appeal (Mid Oct 2022-Mid Apr 2023), Nov. 15, 2022, https://reliefweb.int/report/haiti/haiti-2022-cholera-flash-appeal-mid-oct-2022-mid-apr-2023.

Economic Situation

Amidst the political, security, and environmental crises, Haiti's economy has floundered. Haiti is among the countries with the greatest inequality in the region. The richest 20% of its population holds more than 64% of its total wealth, while the poorest 20% has less than 1%.⁶⁴ Latest estimates put the 2021 poverty rate at 52.3%, up from 51% in 2020.⁶⁵ In 2021, Haiti had a GDP per capita of $1,815, the lowest in the Latin America and the Caribbean (LAC) region and less than a fifth of the LAC average of $15,092.⁶⁶ On the UN's Human Development Index,⁶⁷ Haiti ranked 170 out of 189 in 2020.⁶⁸

⁶⁴ World Bank, The World Bank in Haiti Overview (last updated June 14, 2022), https://www.worldbank.org/en/country/haiti/overview.

⁶⁵ Id.

⁶⁶ Id.

⁶⁷ The Human Development Index (HDI) is a summary measure of average achievement in key dimensions of human development: a long and healthy life, being knowledgeable and have a decent standard of living. See UNDP, Human Development Index (HDI) (last visited Aug. 15, 2022), https://hdr.undp.org/data-center/human-development-index#/indicies/HDI.

⁶⁸ World Bank, The World Bank in Haiti Overview (last updated June 14, 2022), https://www.worldbank.org/en/country/haiti/overview.

In summary, Haiti is experiencing extraordinary and temporary conditions resulting from grave insecurity and gang crime, as well as socio-economic and humanitarian conditions, including those resulting from environmental disasters aggravating food insecurity.

Based upon this review and after consultation with appropriate U.S. Government agencies, the Secretary has determined that:

• The conditions supporting Haiti's designation for TPS continue to be met. See INA section 244(b)(3)(C), 8 U.S.C. 1254a(b)(1)(C).

• There continue to be extraordinary and temporary conditions in Haiti that prevent Haitian nationals (or individuals having no nationality who last habitually resided in Haiti) from returning to Haiti in safety, and it is not contrary to the national interest of the United States to permit Haitian TPS beneficiaries to remain in the United States temporarily. See INA section 244(b)(1)(C), 8 U.S.C. 1254a(b)(1)(C).

• The designation of Haiti for TPS should be extended for an 18-month period, from February 4, 2023, through August 3, 2024. See INA section 244(b)(3)(C), 8 U.S.C. 1254a(b)(3)(C).

• Due to the conditions described above, Haiti should be simultaneously redesignated for TPS effective February 4, 2023, through August 3, 2024. See INA section 244(b)(1)(C) and (b)(2), 8 U.S.C. 1254a(b)(1)(C) and (b)(2).

• The Secretary has determined that TPS applicants under the redesignation must demonstrate that they have continuously resided in the United States since November 6, 2022.

• TPS applicants under the redesignation must demonstrate that they have been continuously physically present in the United States since February 4, 2023, the effective date of the redesignation of Haiti for TPS.

• It is estimated that approximately 105,000 additional individuals may be eligible for TPS under the redesignation of Haiti. This population includes Haitian nationals in the United States in nonimmigrant status or without immigration status.

Notice of the Designation of Haiti for TPS

By the authority vested in me as Secretary under INA section 244, 8 U.S.C. 1254a, I have determined, after consultation with the appropriate U.S. Government agencies, the statutory conditions supporting Haiti's designation for TPS on the basis of extraordinary and temporary conditions are met. See INA section 244(b)(1)(C), 8 U.S.C. 1254a(b)(1)(C). On the basis of this determination, I am simultaneously extending the existing designation of TPS for Haiti for 18 months, from February 4, 2023, through August 3, 2024, and redesignating Haiti for TPS for the same 18-month period. See INA section 244(b)(1)(C) and (b)(2); 8 U.S.C. 1254a(b)(1)(C), and (b)(2).

Alejandro N. Mayorkas,
Secretary, U.S. Department of Homeland Security.

Eligibility and Employment Authorization for TPS

Required Application Forms and Application Fees To Register or Re-Register for TPS

To register initially for TPS based on the designation of Haiti, you must submit a Form I-821, Application for Temporary Protected Status, and pay the filing fee (or request a fee waiver, which you may submit on Form I-912, Request for Fee Waiver). You may be required to pay the biometric services fee. If you can demonstrate an inability to pay the biometric services fee, you may request to have the fee waived. Please see additional information under the “Biometric Services Fee” section of this notice.

Individuals with existing TPS granted under the 2021 designation of Haiti must file Form-821 for re-registration as discussed above. Individuals who currently retain their TPS under the Ramos injunction noted in footnote 1 above, may file Form I-821 for re-registration if they wish to help ensure that their TPS continues should the Ramos court order end and they remain eligible. Re-registrants do not pay the $50 filing fee for the Form I-821 but must pay the biometric services fee if age 14 or older (or request a fee waiver).

TPS beneficiaries are authorized to work in the United States. You are not required to submit Form I-765 or have an EAD, but see below for more information if you want to work in the United States.

Individuals who have a Haiti TPS application (Form I-821) that was still pending as of January 26, 2023 do not need to file the application again. If USCIS approves an individual's Form I-821, USCIS will grant the individual TPS through August 3, 2024.

For more information on the application forms and fees for TPS, please visit the USCIS TPS web page at https://www.uscis.gov/tps. Fees for the Form I-821, the Form I-765, and biometric services are also described in 8 CFR 103.7(b)(1) (Oct. 1, 2020). In addition, the form instructions for the Form I-821 and Form I-765 provide further information on requirements and fees for both initial TPS applicants and existing TPS beneficiaries who are re-registering.

How can TPS beneficiaries obtain an Employment Authorization Document (EAD)?

Every employee must provide their employer with documentation showing that they have the legal right to work in the United States. TPS beneficiaries are eligible for an EAD, which proves their legal right to work. Those who want to obtain an EAD must file a Form I-765, Application for Employment Authorization, and pay the Form I-765 fee (or request a fee waiver, which you may submit on Form I-912, Request for Fee Waiver). TPS applicants may file this form along with their TPS application, or at a later date, provided their TPS application is still pending or has been approved. Beneficiaries with a Haiti TPS-related Form I-765 application in connection with a Form I-821 that was still pending as of January 26, 2023 do not need to file the application again. If USCIS approves a pending TPS-related Form I-765, USCIS will issue the individual a new EAD that will be valid through August 3, 2024.

Refiling an Initial TPS Registration Application After Denial of a Fee Waiver Request

If your fee waiver request is denied, you must refile your Form I-821 for TPS along with the required fees during the registration period, which extends until August 3, 2024. You may also file your Form I-765 with payment of the fee along with your TPS application or at any later date you decide you want to request an EAD during the registration period.

Refiling a TPS Re-Registration Application After Denial of a Fee Waiver Request

You should refile your Form I-821 for TPS and Form I-765 as soon as possible so USCIS can process your application and issue any EAD promptly, if you requested one. Properly filing early will also give you time to refile your application before the deadline, if USCIS does not grant your fee waiver request. If you receive a notice that USCIS did not grant your fee waiver request, and you are unable to refile by the re-registration deadline, you may still refile your Form I-821 with the biometric services fee. USCIS will review this situation to determine whether you established good cause for late TPS re-registration. However, if possible, we urge you to refile within 45 days of the date on any USCIS notice that we did not grant you a fee waiver. See INA section 244(c)(3)(C); 8 U.S.C. 1254a(c)(3)(C); 8 CFR 244.17(b). For more information on good cause for late re-registration, visit the USCIS TPS web page at https://www.uscis.gov/tps. If USCIS does not grant your fee waiver request, you may also refile your Form I-765 with the fee either with your Form I-821 or at a later time, if you choose.

Note: A re-registering TPS beneficiary age 14 and older must pay the biometric services fee (but not the Form I-821 filing fee), or request a fee waiver, when filing a TPS re-registration application. However, if you decide to wait to request an EAD, you do not have to file the Form I-765 or pay the associated Form I-765 fee (or request a fee waiver) at the time of re-registration. You may wait to seek an EAD until after USCIS has approved your TPS re-registration application or at any later date you decide you want to request an EAD. To re-register for TPS, you only need to file the Form I-821 with the biometric services fee, if applicable (or request a fee waiver).

Filing Information

USCIS offers the option to applicants for TPS under Haiti's designation to file Form I-821 and related requests for EADs online or by mail. When filing a TPS application, applicants can also request an EAD by submitting a completed Form I-765, Request for Employment Authorization, with their Form I-821.

Online filing: Forms I-821 and I-765 are available for concurrent filing online.⁶⁹ To file these forms online, you must first create a USCIS online account.⁷⁰

⁶⁹ Find information about online filing at “Forms Available to File Online,” https://www.uscis.gov/file-online/forms-available-to-file-online.

⁷⁰ https://myaccount.uscis.gov/users/sign_up.

Mail filing: Mail your application for TPS to the proper address in Table 1.

Table 1—Mailing Addresses

Mail your completed Form I-821, Application for Temporary Protected Status; Form I-765, Application for Employment Authorization, if applicable; Form I-912, Request for Fee Waiver (if applicable); and supporting documentation to the proper address in Table 1.

Table 1—Mailing Addresses
If . . . | Mail to . . .
You live in the following states: Florida or New York, and you are using the U.S. Postal Service (USPS) | USCIS, Attn: TPS Haiti, P.O. Box 660167, Dallas, TX 75266-0167.
You live in the following states: Florida or New York, and you are using FedEx, UPS, or DHL | USCIS, Attn: TPS Haiti (Box 660167), 2501 S State Highway, 121 Business, Suite 400, Lewisville, TX 75067-8003.
You live in any other state, and you are using the U.S. Postal Service (USPS) | USCIS, Attn: TPS Haiti, P.O. Box 24047, Phoenix, AZ 85074-4047.
You live in any other state, and you are using FedEx, UPS, or DHL | USCIS Attn: TPS Haiti (Box 24047), 1820 E Skyharbor Circle S, Suite 100, Phoenix, AZ 85034-4850.

If you were granted TPS by an immigration judge (IJ) or the Board of Immigration Appeals (BIA) and you wish to request an EAD, please mail your Form I-765 application to the appropriate mailing address in Table 1. When you are requesting an EAD based on an IJ/BIA grant of TPS, please include a copy of the IJ or BIA order granting you TPS with your application. This will help us verify your grant of TPS and process your application.

Supporting Documents

The filing instructions on the Form I-821 list all the documents needed to establish eligibility for TPS. You may also find information on the acceptable documentation and other requirements for applying (that is, registering) for TPS on the USCIS website at https://www.uscis.gov/tps under “Haiti.”

Travel

TPS beneficiaries may also apply for and be granted travel authorization as a matter of discretion. You must file for travel authorization if you wish to travel outside of the United States. If granted, travel authorization gives you permission to leave the United States and return during a specific period. To request travel authorization, you must file Form I-131, Application for Travel Document, available at https://www.uscis.gov/i-131. You may file Form I-131 together with your Form I-821 or separately. When filing the Form I-131, you must:

• Select Item Number 1.d. in Part 2 on the Form I-131; and

• Submit the fee for the Form I-131, or request a fee waiver, which you may submit on Form I-912, Request for Fee Waiver.

If you are filing Form I-131 together with Form I-821, send your forms to the address listed in Table 1. If you are filing Form I-131 separately based on a pending or approved Form I-821, send your form to the address listed in Table 2 and include a copy of Form I-797 for the approved or pending Form I-821.

Table 2—Mailing Addresses
If you are . . . | Mail to . . .
Filing Form I-131 together with a Form I-821, Application for Temporary Protected Status | The address listed for on the TPS page for your country.
Filing Form I-131 based on a pending or approved Form I-821, and you are using the U.S. Postal Service (USPS): You must include a copy of the receipt notice (Form I-797C) showing we accepted or approved your Form I-821 | USCIS, Attn: I-131 TPS, P.O. Box 660167, Dallas, TX 75266-0867.
Filing Form I-131 based on a pending or approved Form I-821, and you are using FedEx, UPS, or DHL: You must include a copy of the receipt notice (Form I-797C) showing we accepted or approved your Form I-821 | USCIS, Attn: I-131 TPS, 2501 S State Hwy., 121 Business, Ste. 400, Lewisville, TX 75067.

Biometric Services Fee for TPS

Biometrics (such as fingerprints) are required for all applicants 14 years of age and older. Those applicants must submit a biometric services fee. As previously stated, if you are unable to pay the biometric services fee, you may request a fee waiver, which you may submit on Form I-912, Request for Fee Waiver. For more information on the application forms and fees for TPS, please visit the USCIS TPS web page at https://www.uscis.gov/tps. If necessary, you may be required to visit an Application Support Center to have your biometrics captured. For additional information on the USCIS biometric screening process, please see the USCIS Customer Profile Management Service Privacy Impact Assessment, available at https://www.dhs.gov/publication/dhsuscispia-060-customer-profile-management-service-cpms.

General Employment-Related Information for TPS Applicants and Their Employers

How can I obtain information on the status of my TPS application and EAD request?

To get case status information about your TPS application, as well as the status of your TPS-based EAD request, you can check Case Status Online at https://www.uscis.gov, or visit the USCIS Contact Center at https://www.uscis.gov/contactcenter. If your Form I-765 has been pending for more than 90 days, and you still need assistance, you may ask a question about your case online at https://egov.uscis.gov/e-request/Intro.do or call the USCIS Contact Center at 800-375-5283 (TTY 800-767-1833).

Am I eligible to receive an automatic extension of my current EAD through February 3, 2024, using this Federal Register notice?

Yes. Regardless of your country of birth, provided that you currently have a Haiti TPS-based EAD that has the notation A-12 or C-19 under Category and a “Card Expires” date of February 3, 2023, this Federal Register notice automatically extends your EAD through February 3, 2024. Although this Federal Register notice automatically extends your EAD through February 3, 2024, you must re-register timely for TPS in accordance with the procedures described in this Federal Register notice to maintain your TPS and employment authorization.

Note: The validity dates of certain EADs with facial expiration dates before February 3, 2023 for TPS beneficiaries who are covered by the Ramos injunction continue in accordance with 86 FR 50725 (Sept. 10, 2021) and may be continued by a superseding litigation-related notice.

When I am hired, what documentation may I show to my employer as evidence of identity and employment authorization when completing Form I-9?

You can find the Lists of Acceptable Documents on Form I-9, Employment Eligibility Verification, as well as the Acceptable Documents web page at https://www.uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in the Form I-9 Instructions. Employers may not reject a document based on a future expiration date. You can find additional information about Form I-9 on the I-9 Central web page at https://www.uscis.gov/I-9Central. An EAD is an acceptable document under List A. See the section “How do my employer and I complete Form I-9 using my automatically extended EAD for a new job?” of this Federal Register notice for further information. If your EAD states A-12 or C-19 under Category and has a “Card Expires” date of February 3, 2023, it has been extended automatically by virtue of this Federal Register notice and you may choose to present your EAD to your employer as proof of identity and employment eligibility for Form I-9 through February 3, 2024, unless your TPS has been withdrawn or your request for TPS has been denied. Your country of birth notated on the EAD does not have to reflect the TPS designated country of Haiti for you to be eligible for this extension.

What documentation may I present to my employer for Form I-9 if I am already employed but my current TPS-related EAD is set to expire?

Even though we have automatically extended your EAD, your employer is required by law to ask you about your continued employment authorization. Your employer may need to re-inspect your automatically extended EAD to check the “Card Expires” date and Category code if your employer did not keep a copy of your EAD when you initially presented it. Once your employer has reviewed the “Card Expires” date and Category code, your employer should update the EAD expiration date in Section 2 of Form I-9. See the section “What updates should my current employer make to Form I-9 if my EAD has been automatically extended?” of this Federal Register notice for further information. You may show this Federal Register notice to your employer to explain what to do for Form I-9 and to show that USCIS has automatically extended your EAD through February 3, 2024, but you are not required to do so. The last day of the automatic EAD extension is February 3, 2024. Before you start work on February 4, 2024, your employer is required by law to reverify your employment authorization on Form I-9. By that time, you must present any document from List A or any document from List C on Form I-9 Lists of Acceptable Documents, or an acceptable List A or List C receipt described in the Form I-9 instructions to reverify employment authorization.

Your employer may not specify which List A or List C document you must present and cannot reject an acceptable receipt.

If I have an EAD based on another immigration status, can I obtain a new TPS-based EAD?

Yes, if you are eligible for TPS, you can obtain a new TPS-based EAD, regardless of whether you have an EAD or work authorization based on another immigration status. If you want to obtain a new TPS-based EAD valid through August 3, 2024, then you must file Form I-765, Application for Employment Authorization, and pay the associated fee (unless USCIS grants your fee waiver request).

Can my employer require that I provide any other documentation such as evidence of my status or proof of my Haitian citizenship or a Form I-797C showing that I registered for TPS for Form I-9 completion?

No. When completing Form I-9, employers must accept any documentation you choose to present from the Form I-9 Lists of Acceptable Documents that reasonably appears to be genuine and that relates to you, or an acceptable List A, List B, or List C receipt. Employers may not request proof of Haitian citizenship or proof of registration for TPS when completing Form I-9 for new hires or reverifying the employment authorization of current employees. If you present an EAD that USCIS has automatically extended, employers should accept it as a valid List A document so long as the EAD reasonably appears to be genuine and to relate to you. Refer to the “Note to Employees” section of this Federal Register notice for important information about your rights if your employer rejects lawful documentation, requires additional documentation, or otherwise discriminates against you based on your citizenship or immigration status, or your national origin.

How do my employer and I complete Form I-9 using my automatically extended EAD for a new job?

When using an automatically extended EAD to complete Form I-9 for a new job before February 3, 2024:

1. For Section 1, you should:

a. Check “An alien authorized to work until” and enter February 3, 2024, as the “expiration date”; and

b. Enter your USCIS number or A-Number where indicated. (Your EAD or other document from DHS will have your USCIS number or A-Number printed on it; the USCIS number is the same as your A-Number without the A prefix.)

2. For Section 2, employers should:

a. Determine if the EAD is auto-extended by ensuring it is in category A-12 or C-19 and has a “Card Expires” date of February 3, 2023;

b. Write in the document title;

c. Enter the issuing authority;

d. Provide the document number; and

e. Write February 3, 2024, as the expiration date.

Before the start of work on February 4, 2024, employers must reverify the employee's employment authorization on Form I-9.

What updates should my current employer make to Form I-9 if my EAD has been automatically extended?

If you presented a TPS-related EAD that was valid when you first started your job and USCIS has now automatically extended your EAD, your employer may need to re-inspect your current EAD if they do not have a copy of the EAD on file. Your employer should determine if your EAD is automatically extended by ensuring that it contains Category A-12 or C-19 on the front of the card and has a “Card Expires” date of February 3, 2023. Your employer may not rely on the country of birth listed on the card to determine whether you are eligible for this extension.

If your employer determines that USCIS has automatically extended your EAD, your employer should update Section 2 of your previously completed Form I-9 as follows:

1. Write EAD EXT and February 3, 2024, as the last day of the automatic extension in the Additional Information field; and

2. Initial and date the correction.

Note: This is not considered a reverification. Employers do not reverify the employee until either the one-year automatic extension has ended, or the employee presents a new document to show continued employment authorization, whichever is sooner. By February 4, 2024, when the employee's automatically extended EAD has expired, employers are required by law to reverify the employee's employment authorization on Form I-9.

If I am an employer enrolled in E-Verify, how do I verify a new employee whose EAD has been automatically extended?

Employers may create a case in E-Verify for a new employee by entering the number from the Document Number field on Form I-9 into the document number field in E-Verify. Employers should enter February 3, 2024, as the expiration date for an EAD that has been extended under this Federal Register notice.

If I am an employer enrolled in E-Verify, what do I do when I receive a “Work Authorization Documents Expiring” alert for an automatically extended EAD?

E-Verify automated the verification process for TPS-related EADs that are automatically extended. If you have employees who provided a TPS-related EAD when they first started working for you, you will receive a “Work Authorization Documents Expiring” case alert when the auto-extension period for this EAD is about to expire. Before this employee starts work on February 4, 2024, you must reverify their employment authorization on Form I-9. Employers may not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@uscis.dhs.gov. USCIS accepts calls in English, Spanish and many other languages. Employees or job applicants may also call the IER Worker Hotline at 800-255-7688 (TTY 800-237-2515) for information regarding employment discrimination based on citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of “Tentative Nonconfirmation” (mismatch) must promptly inform employees of the mismatch and give such employees an opportunity to contest the mismatch. A mismatch means that the information entered into E-Verify from Form I-9 differs from records available to DHS.

Employers may not terminate, suspend, delay training, withhold or lower pay, or take any adverse action against an employee because of a mismatch while the case is still pending with E-Verify. A Final Nonconfirmation (FNC) case result is received when E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS and E-Verify websites at https://www.uscis.gov/i-9-central and https://www.e-verify.gov.

Note Regarding Federal, State, and Local Government Agencies (Such as Departments of Motor Vehicles)

For Federal purposes, if you present an automatically extended EAD referenced in this Federal Register notice, you do not need to show any other document, such as a Form I-797C, Notice of Action, or this Federal Register notice, to prove that you qualify for this extension. While Federal Government agencies must follow the guidelines laid out by the Federal Government, State and local government agencies establish their own rules and guidelines when granting certain benefits. Each state may have different laws, requirements, and determinations about what documents you need to provide to prove eligibility for certain benefits. Whether you are applying for a Federal, State, or local government benefit, you may need to provide the government agency with documents that show you are a TPS beneficiary, show you are authorized to work based on TPS or other status, or may be used by DHS to determine if you have TPS or another immigration status. Examples of such documents are:

• Your current EAD with a TPS category code of A-12 or C-19, even if your country of birth noted on the EAD does not reflect the TPS designated country of Haiti;

• Your Form I-94, Arrival/Departure Record;

• Your Form I-797C, Notice of Action, reflecting approval of your Form I-765; or

• Form I-797 or Form I-797C, Notice of Action, reflecting approval or receipt of a past or current Form I-821.

Check with the government agency requesting documentation regarding which document(s) the agency will accept. Some state and local government agencies use the SAVE program to confirm the current immigration status of applicants for public benefits.

While SAVE can verify that an individual has TPS, each state and local government agency's procedures govern whether they will accept an unexpired EAD, Form I-797, Form I-797C, or Form I-94, Arrival/Departure Record. If an agency accepts the type of TPS-related document you present, such as an EAD, the agency should accept your automatically extended EAD, regardless of the country of birth listed on the EAD. It may assist the agency if you:

a. Give the agency a copy of the relevant Federal Register notice listing the TPS-related document, including any applicable auto-extension of the document, in addition to presenting your recent TPS-related document with your A-Number, or USCIS number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or automatic extension of TPS-related documentation. In most cases, SAVE provides an automated electronic response to benefit-granting agencies within seconds, but occasionally verification can be delayed. You can check the status of your SAVE verification by using CaseCheck at https://save.uscis.gov/casecheck. CaseCheck is a free service that lets you follow the progress of your SAVE verification case using your date of birth and one immigration identifier number (A-Number, USCIS number, or Form I-94 number) or Verification Case Number. If an agency has denied your application based solely or in part on a SAVE response, the agency must offer you the opportunity to appeal the decision in accordance with the agency's procedures. If the agency has received and acted on or will act on a SAVE verification and you do not believe the SAVE response is correct, the SAVE website, www.uscis.gov/save, has detailed information on how to make corrections or update your immigration record, make an appointment, or submit a written request to correct records.

[FR Doc. 2023-01586 Filed 1-25-23; 8:45 am]

BILLING CODE 9111-97-P